DEPARTMENT OF COMMERCE

International Trade Administration

[A-357-818, A-201-835]

Postponement of Preliminary Determinations of Antidumping Duty Investigations: Lemon Juice from Argentina and Mexico

AGENCY: Import Administration, International Trade Administration, Department of Commerce.

EFFECTIVE DATE: February 16, 2007.

FOR FURTHER INFORMATION CONTACT: Mark Hoadley (Argentina) or Edythe Artman (Mexico), AD/CVD Operations, Office 6 and Office 5, Import Administration, International Trade Administration, U.S. Department of Commerce, 14th Street and Constitution Avenue, N.W., Washington, DC 20230; telephone: (202) 482-3148 or (202) 482-2921, respectively.

SUPPLEMENTARY INFORMATION:

Postponement of Preliminary Determinations

On October 19, 2006, the Department of Commerce (the Department) initiated the antidumping duty investigations of lemon juice from Argentina and Mexico. See Initiation of Antidumping Duty Investigations: Lemon Juice from Argentina and Mexico, 71 FR 61710 (October 19, 2006). The notice of initiation stated that the Department would issue its preliminary determinations for these investigations no later than 140 days after the date of issuance of the initiation, in accordance with section 733(b)(1)(A) of the Tariff Act of 1930, as amended (the Act).

On February 1, 2007, the petitioner, Sunkist Growers, Inc., made a timely request pursuant to 19 CFR 351.205(b)(2) and (e) for a 50-day postponement of the preliminary determinations. The petitioner requested postponement of the preliminary determinations in order to allow the Department additional time in which to review the complex questionnaire responses that have been submitted in the investigations and to analyze additional responses due to be filed shortly.

For the reasons identified by the petitioner and because there are no compelling reasons to deny the request, the Department is postponing the deadline for the preliminary determinations under section 733(c)(1)(A) of the Act by 50 days to April 19, 2007. The deadline for the final determinations will continue to be 75 days after the date of the preliminary determinations, unless extended.

This notice is issued and published pursuant to sections 733(c)(2) of the Act and 19 CFR 351.205(f)(1).

Dated: February 8, 2007.
Stephen J. Claeys,
Deputy Assistant Secretary for Import Administration.

[FR Doc. E7-2815 Filed 2-15-07; 8:45 am]

BILLING CODE 3510-DS-S